DEPARTMENT OF COMMERCE

National Oceanic and Atmospheric Administration

[I.D. 061200A]

Southeast Region Permit Family of Forms

AGENCY: National Oceanic and Atmospheric Administration (NOAA).

ACTION: Proposed collection; Comment Request.

SUMMARY: The Department of Commerce, as part of its continuing effort to reduce paperwork and respondent burden, invites the general public and other Federal agencies to take this opportunity to comment on this continuing information collection, as required by the Paperwork Reduction Act of 1995, Public Law 104-13 (44 U.S.C. 3506(c)(2)(A)).

DATES: Written comments must be submitted on or before August 14, 2000.

ADDRESSES: Direct all written comments to Linda Engelmeier, Departmental Forms Clearance Officer, Department of Commerce, Room 6066, 14th and Constitution Avenue NW, Washington DC 20230 (or via Internet at lengelme@doc.gov).

FOR FURTHER INFORMATION CONTACT: Requests for additional information or copies of the information collection instrument(s) and instructions should be directed to Robert Sadler, Southeast Regional Office, 9721 Executive Center Drive, St. Petersburg, Florida 33702.

SUPPLEMENTARY INFORMATION:

I. Abstract

Federal fisheries permits are a major component of fishery management in the Southeast. Conservation and management of fishery resources require identification of fishing vessels and dealers through permits, and notification of agency fishery managers by fishery participants regarding certain fishing activities.

II. Method of Collection

Fishers must notify the agency regarding certain fishing activities, such as retrieval of traps, by telephonic communication. Vessel owners and fishery dealers must submit applications for federal fishing permits and provide relevant information on those applications. However, in many cases fishery permit applications are filled out using data which had previously been submitted and mailed to the applicant. The applicant need only modify any data which has changed and choose the desired permits.

III. Data

OMB Number: 0648-0205.

Form Number: None.

Type of Review: Regular submission.

Affected Public: Business and other for-profit organizations, and individuals.

Estimated Number of Respondents: 6,968.

Estimated Time Per Response: 5 minutes for dealer permit applications; 20 minutes for vessel permit applications; 20 minutes for an Aquacultured Live Rock permit application; 20 minutes for an Aquacultured Live Rock site evaluation report; 5 minutes for Permit Purchase Price Information; 20 minutes for permit endorsements for Gulf Red Snapper; 5 minutes for permit endorsements for Mackerel Gillnet; 5 minutes for notification of Golden Crab Lost or Stolen Traps; 5 minutes for observer notifications for Golden Crab, Shark, and Swordfish trips; 5 minutes for a transit notification for Golden Crab; 5 minutes for a Notification of Authorization for Trap Retrieval for Gulf Reef Fish; 15 minutes for Notification of Authorization for Trap Retrieval for South Atlantic Snapper-Grouper or Golden Crab; 5 minutes for Notification of Harvest Activity for Aquacultured Live Rock; 5 minutes for Notification Lost Traps for Caribbean Spiny Lobster; and 5 minutes for Coupons for Tracking Individual Transferable Quotas for Wreckfish.

Estimated Total Annual Burden Hours: 1,592.

Estimated Total Annual Cost to Public: $382,303 (Fishers are charged for the administrative cost of issuing the permit).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and /or included in the request for OMB approval of this information collection; they also will become a matter of public record.

Dated: June 8, 2000.
Madeleine Clayton,
Management Analyst, Office of Chief Information Officer.

[FR Doc. 00-15176 Filed 6-14-00; 8:45 am]

BILLING CODE 3510-22-F